DEPARTMENT OF TRANSPORTATION

Federal Aviation Administration

Seventh Meeting, Special Committee 214: Standards for Air Traffic Data Communication Services, Working Group 78 (WG-78)

AGENCY: Federal Aviation Administration (FAA), DOT.

ACTION: Notice of RTCA Special Committee 214, Standards for Air Traffic Data Communication Services.

SUMMARY: The FAA is issuing this notice to advise the public of a meeting of the RTCA Special Committee 214, Standards for Air Traffic Data Communication Services.

DATES: The meeting will be held March 30-April 3 from 9 a.m.-5 p.m.

ADDRESSES: The meeting will be held at General Dynamics, 8201 East McDowell Rd., Scottsdale, AZ 85257, USA.

SUPPLEMENTARY INFORMATION: Pursuant to section 10(a) (2) of the Federal Advisory Committee Act (Pub. L. 92-463, 5 U.S.C., Appendix 2), notice is hereby given for a Special Committee 214 meeting. The agenda will include:

Meeting Objectives

• Approve the first draft of the SPR according to the plenary 7 review criteria.

• Approve the first draft of the ATN and FANS Interop document according to the plenary 7 criteria.

• Review and update the work plan as required.

Day 1

• Opening Plenary (Welcome/Introductions/Administrative Remarks).

• Approval of the Agenda.

• Approval of the Minutes of Plenary 6.

• Review of the work so far:

• SC-214/WG-78 Work Plan and TORs.

• SC-206/WG-76 Coordination.

• SC-186 /WG-51 Coordination.

• Overview of the comments received and review of the comments categorization.

• Mandatory, Desirable, Not required categories to be used.

Days 2, 3 and 4

Morning & Afternoon: Comment Resolution Working Sessions

• Subgroups will be defined according to the received comments. At least the following three groups will be required:

• General/Process Comments Resolution.

• SPR Comments Resolution.

• Interop Comments Resolution.

Day 5:

• Review of the resolutions proposed by the subgroups.

• Document Approvals.

• Review Committee Plan—Master Schedule.

• Closing Plenary (Review Dates, Location and Agenda for Next Meeting, Other Business.)

ADDITIONAL INFORMATION: All the documents to be reviewed can be found at the Web site http:www.faa.gov/go/SC214 under the Plenary 7 folder.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 24, 2009.
Francisco Estrada C.,
RTCA Advisory Committee.

[FR Doc. E9-4354 Filed 2-27-09; 8:45 am]

BILLING CODE 4910-13-P